DEPARTMENT OF THE INTERIOR

Fish and Wildlife Service

[FWS-R8-FHC-2012-N124: FXFR1334088TWG0W4-123-FF08EACT00]

Trinity Adaptive Management Working Group

AGENCY: Fish and Wildlife Service, Interior.

ACTION: Notice of meeting.

SUMMARY: The Trinity Adaptive Management Working Group (TAMWG) affords stakeholders the opportunity to give policy, management, and technical input concerning Trinity River (California) restoration efforts to the Trinity Management Council (TMC). The TMC interprets and recommends policy, coordinates and reviews management actions, and provides organizational budget oversight. This notice announces a TAMWG meeting, which is open to the public.

DATES: TAMWG will meet from 9 a.m. to 5 p.m. on Monday, June 11, 2012.

ADDRESSES: The meeting will be held at Johnsons' Steak House, 160 Golf Course Road, Weaverville, CA 96093.

FOR FURTHER INFORMATION CONTACT: Meeting Information: Nancy J. Finley, U.S. Fish and Wildlife Service, 1655 Heindon Road, Arcata, CA 95521; telephone: (707) 822-7201. Trinity River Restoration Program (TRRP) Information: Robin Schrock, Executive Director, Trinity River Restoration Program, P.O. Box 1300, 1313 South Main Street, Weaverville, CA 96093; telephone: (530) 623-1800; email: rschrock@usbr.gov.

SUPPLEMENTARY INFORMATION: Under section 10(a)(2) of the Federal Advisory Committee Act (5 U.S.C. App.), this notice announces a meeting of the TAMWG. The meeting will include discussion of the following topics:

• Trinity River hatchery,

• Executive Director's report,

• TMC chair report,

• Update from workgroups,

• Update on the 2012 Water Year,

• Bay-Delta Conservation Plan & Delta Flow Criteria,

• BOR process for banking water.

Completion of the agenda is dependent on the amount of time each item takes. The meeting could end early if the agenda has been completed.

Dated: May 16, 2012.
Nancy Finley,
Field Supervisor, Arcata Fish and Wildlife Office, Arcata, CA.

[FR Doc. 2012-12377 Filed 5-21-12; 8:45 am]

BILLING CODE 4310-55-P